DEPARTMENT OF VETERANS AFFAIRS

Advisory Committee on Homeless Veterans; Notice of Meeting

The Department of Veterans Affairs (VA) gives notice under Public Law 92-463 (Federal Advisory Committee Act) that a meeting of the Advisory Committee on Homeless Veterans will be held on January 22-23, 2007, at the Phoenix Department of Veterans Affairs Medical Center Building 21, Room 108, 650 East Indian School Road, Phoenix, Arizona. The meeting will begin at 8 a.m. and end at 4 p.m. each day. The meeting is open to the public.

The purpose of the Committee is to provide the Secretary of Veterans Affairs with an ongoing assessment of the effectiveness of the policies, organizationl structures, and services of the Department in assisting homeless veterans. The Committee shall assemble and review information relating to the needs of homeless veterans and provide advice on the most appropriate means of offering assistance to homeless veterans. The Committee will make recommendations to the Secretary regarding such activities.

On January 22, the session will break into working groups at 10 a.m. and reconvene at 3 p.m. to hear reports from VA and other officials. On January 23, the Committee will continue to receive reports and begin preparation of its upcoming annual report and recommendations to the Secretary.

Those wishing to attend the meeting should contact Mr. Pete Dougherty, Department of Veterans Affairs, at (202) 273-5764. No time will be allocated for receiving oral presentations from the public. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: January 3, 2007.
By direction of the Secretary.
E. Philip Riggin,
Committee Management Officer.

[FR Doc. 07-36 Filed 1-9-07; 8:45 am]

BILLING CODE 8320-01-M